DEPARTMENT OF THE INTERIOR

Bureau of Land Management

[WY-921-5440-FR-K069; WYW 155951]

Realty Action; Conveyance of Public Lands; Wyoming

AGENCY: Bureau of Land Management, Interior.

ACTION: Notice of realty action; airport conveyance to Big Horn County.

SUMMARY: The following public lands in Big Horn County have been found suitable for conveyance to Big Horn County for airport purposes under the Act of May 24, 1928, as amended and 49 U.S.C. 47125 (2006).

Sixth Principal Meridian, Big Horn County, Wyoming

T. 53 N., R. 93 W.,

Sec. 32 W½W½NE¼NE¼NW¼, NW¼NE¼NW¼, W½W½SE¼NE¼NW¼, SW¼NE¼NW¼, NE¼NW¼NW¼, E½E½NW¼NW¼NW¼, E½E½SW¼NW¼NW¼, SE¼NW¼NW¼, W½W½NW¼SE¼NW¼, NW¼SE¼NW¼, E½SW¼SE¼NW¼, W½W½SE¼SE¼NW¼.

The above land contains 70 acres.

FOR FURTHER INFORMATION CONTACT: Janelle Wrigley, BLM Wyoming State Office, 307-775-6257, or at the above address.

SUPPLEMENTARY INFORMATION: Conveyance of the lands is consistent with applicable Federal and county land use plans and will help meet the needs of the Big Horn County residents. Under this conveyance Runway 16-34 at the South Big Horn County Airport will be extended; Runway 15-33 will be converted and reconstructed to a parallel taxiway, and Runway 7-25 will be rehabilitated and extended.

The conveyance will contain reservations to the United States for ditches, canals and all minerals. The patent will also be issued subject to the existing rights of record including a right-of-way, WYW-38612, issued to Big Horn County for road purposes; and right-of-way, WYW-128844, issued to Big Horn County for road purposes; and right-of-way, WYW-165789, issued to PacifiCorp for a powerline; a right-of-way, WYW-044411, issued to PacifiCorp for a powerline; a right-of-way, WYW-138721,issued to TCT West for a buried cable; a right-of-way, WYW-112026, issued to WAPA for a powerline; a right-of-way, WYW-94163, issued to PacifiCorp for a powerline; and a right-of-way, WYW-0313050, issued to Qwest for a telephone line. Specific covenants required by the Federal Aviation Administration will also be included in the conveyance and are available by contacting the office listed below.

The conveyance is consistent with the Cody Resource Management Plan. The land is not required for any other Federal purpose.

Upon publication of this notice in the Federal Register, the above described land will be segregated from all forms of appropriation under the public land laws, including the general mining laws, except applications for airport purposes and leasing under the mineral leasing laws.

For a period of 45 days from the date of publication of this notice in the Federal Register, interested parties may submit comments to the BLM, Branch of Fluid Mineral Operations, Lands, & Appraisal, (Attn: Janelle Wrigley), Wyoming State Office, P.O. Box 1828, Cheyenne, Wyoming 82003. Only written comments submitted by postal service or overnight mail to the Wyoming State Office will be considered properly filed. Electronic mail, facsimile or telephone comments will not be considered properly filed. Any adverse comments will be evaluated by the State Director, who may sustain, vacate, or modify this realty action. In the absence of any objection, this proposed realty action will become final.

Dated: July 25, 2008.
Tamara J. Gertsch,
Realty Officer.

[FR Doc. E8-18901 Filed 8-14-08; 8:45 am]

BILLING CODE 4310-22-P